DEPARTMENT OF AGRICULTURE

Forest Service

Ochoco National Forest, Lookout Mountain Ranger District; Oregon; Ochoco Summit; OHV Trail EIS

AGENCY: Forest Service, USDA.

ACTION: Notice of Intent to prepare an Environmental Impact Statement.

SUMMARY: The Ochoco National Forest is preparing an Environmental Impact Statement (EIS) to analyze the effects of changing the existing motorized trail system to create and designate a sustainable system of roads, trails and areas open to motor vehicles that will provide legal public access, enhance regulation of unmanaged wheeled motor vehicle travel, protect resources, and decrease conflicts between motorized and non-motorized use on the Ochoco National Forest. Consistent with the Ochoco National Forest Land and Resource Management Plan, as amended, this action is needed to provide to the public a diversity of road and trail opportunities for experiencing a variety of environments and modes of travel.

DATES: Comments concerning the scope of the analysis must be received by December 21, 2009. The draft environmental impact statement is expected to be completed and available for public comment in May 2010. The final environmental impact statement is expected to be completed in August 2010.

ADDRESSES: Send written comments to Ochoco Summit OHV Trail Planning Team, Ochoco National Forest, 3160 NE Third Street, Prineville, Oregon 97754. Alternately, electronic comments may be sent to comments-pacificnorthwest-ochoco@fs.fed.us. Electronic comments must be submitted as part of the actual e-mail message, or as an attachment in plain text (.txt), Microsoft Word (.doc), rich text format (.rtf), or portable document format (.pdf).

FOR FURTHER INFORMATION CONTACT: Dede Steele, Project Leader, at 3160 NE. Third Street, Prineville, Oregon 97754, or at (541) 416-6500, or by e-mail at dsteele@fs.fed.us.

Responsible Official: The responsible official will be Jeff Walter, Forest Supervisor, Ochoco National Forest, 3160 NE. Third Street, Prineville, Oregon 97754.

SUPPLEMENTARY INFORMATION: Purpose and Need. The Deschutes and Ochoco National Forests are working to complete a Travel Management EIS. If implemented, the two-forest Travel Management EIS would identify specific roads as open for motorized mixed use, and would prohibit off-road travel except where specifically allowed. Opportunities for recreation with off-road vehicles would be reduced. There currently is only one motorized trail in a forested setting on the Ochoco National Forest: The Green Mountain Trail. At just over eight miles, it is not of sufficient length to provide a day of riding to an experienced rider, let alone a weekend of opportunity. As a result, riders are currently venturing off the trail and have created a network of loops. This represents an unauthorized expansion of an undersized trail system. To provide a successful OHV trail system, the system must contain adequate length, diversity, difficulty, loops, alternative routes and other features to provide a quality experience and to keep the use on the designated system.

OHV riders have indicated a desire for additional motorized opportunities other than on mixed use roads. NFS roads are designed primarily for highway-legal vehicles such as passenger cars or log trucks, and are often too wide and too smooth to provide a course with sufficient technical difficulty to keep OHV riders interested and challenged. The intent of providing trails for OHVs is to provide routes with sufficient technical difficulty, diversity of experience and interesting features to keep the riders interested, challenged and engaged with staying on the designated route. The intent of providing mixed use roads is to provide riders with access to a variety of locations on the forest and to provide easy routes for riders who are not looking for a technically difficult experience.

Proposed Action. The Proposed Action focuses on designating motorized trails and supporting areas, in conjunction with opportunities that would remain on mixed use roads identified in the forest-level Travel Management EIS. The Proposed Action would:

• Designate a system of trails and areas (including staging areas, play areas, riding areas where young riders may be supervised by adults, learner/warm-up loops, picnic and camping areas) by class of vehicle and season of use.

• Utilize designated open motorized mixed use roads as connecters between trail segments.

• Designate areas for developed and dispersed camping activities with legal trail access.

• Implement rehabilitation or restoration activities in previously damaged areas and interconnecting unauthorized or user-created routes to promote recovery, and to prevent confusion about which routes are open and which are not.

• Establish directional, informational and interpretive signing to: Facilitate proper trail use, safety and enforcement; to provide public information and education; to define trail, riding area, staging area and camp sites locations; to promote recovery of rehabilitation and restoration sites; and to encourage reporting of violations, restoration or maintenance needs.

• Trails would be designed with width and difficulty appropriate for each intended vehicle type, while roads designated as open in the forest-level Travel Management EIS would not be narrowed to trail standards (i.e. designated open roads would remain designated open roads).

Issues. Preliminary issues identified include:

• Resource concerns including effects to wildlife, fish, streams, sensitive habitats, forage and weeds.

• Inadequate quality of experience for off-highway vehicle use on open roads.

• Retention of non-motorized use experience, potential noise levels.

• Retention of traditional motorized recreational experience, noise/traffic levels.

• Concern for increasing off-highway vehicle use on the Forest.

• User conflicts associated with motorized/non-motorized recreation.

• Economic sustainability of road and trail system.

• Monitoring, maintenance and enforcement of appropriate use.

• Potential economic benefits to communities that rely on recreation-tourism.

• Potential impacts to adjacent land owners.

• Potential impacts to livestock and range improvements on permitted allotments.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will he filed with the Environmental Protection Agency (EPA) and available for public review by May, 2010. The EPA will publish a Notice of Availability (NOA) of the draft EIS in the Federal Register. The final ElS is scheduled to be available August, 2010.

The comment period on the draft ElS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final ETS, the Forest Service is required to respond to substantive comments received during the comment period for the draft EIS. The Forest Service is the lead agency and the responsible official is the Forest Supervisor, Ochoco National Forest. The responsible official will decide whether and how to change the existing motorized trail system on the Ochoco National Forest. The responsible official will also decide how to mitigate impacts of this action and will determine when and how monitoring of effects will take place.

The Ochoco Summit OHV Trail decision and the reasons for the decision will be documented in the record of decision. That decision will be subject to Forest Service Appeal Regulations (35 CFR Part 215).

Dated: November 12, 2009.
William R. Queen,
District Ranger.

[FR Doc. E9-27801 Filed 11-19-09; 8:45 am]

BILLING CODE 3410-11-M